ENVIRONMENTAL PROTECTION AGENCY

[FRL-7828-3]

National Drinking Water Advisory Council's Water Security Working Group Meeting Announcement

AGENCY: Environmental Protection Agency.

ACTION: Notice.

SUMMARY: The Environmental Protection Agency (EPA) announces the second public meeting of the Water Security Working Group (WSWG) of the National Drinking Water Advisory Council (NDWAC), which was established under the Safe Drinking Water Act. The purpose of this meeting is to provide an opportunity for the WSWG members to continue deliberations on principles and program elements for drinking water and wastewater (water sector) security programs, including a framework to assess and prioritize security enhancements; to initiate deliberations on incentives to encourage development of active and effective security programs in the water sector; and to initiate deliberations on measures of the performance of water security programs. Part of the meeting will be open to the public; an opportunity for public comment will be provided during that time. WSWG findings and recommendations will be provided to the NDWAC for their consideration. Three additional meetings of the WSWG are planned and will be announced in the near future. The WSWG anticipates providing findings and recommendations to the NDWAC in spring 2005.

DATES: The WSWG meeting is October 27-29, 2004. On October 27, 2004, the meeting is scheduled from 12:30 p.m. to 6 p.m., eastern time (ET). On October 28, 2004, the meeting is scheduled from 8 a.m. to 5:30 p.m., ET. On October 29, 2004, the meeting will begin at 8 a.m. and end at 2:30 p.m., ET.

ADDRESSES: The meeting will take place at Embassy Suite Crystal City, 1300 Jefferson Davis Hwy, Arlington, Virginia 22202. The telephone number for this hotel is (703) 979-9799 and the fax number is (703) 920-5947.

FOR FURTHER INFORMATION CONTACT: Interested participants from the public should contact Marc Santora, Designated Federal Officer, U.S. Environmental Protection Agency, Office of Ground Water and Drinking Water, Water Security Division (Mail Code 4601-M), 1200 Pennsylvania Avenue, NW., Washington, DC, 20460. Please contact Marc Santora at santora.marc@epa.gov or call 202-564-1597 to receive additional details.

SUPPLEMENTARY INFORMATION:

Closed and Open Parts of the Meeting

Parts of the meeting will be closed to the public to allow the WSWG an opportunity to discuss security-sensitive information relating to specific water sector vulnerabilities and security tactics. Only WSWG members, Federal resource personnel, facilitation support contractors and outside experts identified by the facilitation support contractors will attend closed meeting sessions. The WSWG is a working group of the NDWAC; it is not a Federal advisory committee and therefore not subject to the same public disclosure laws that govern Federal advisory committees. A general summary of the topics discussed during closed meetings and the individuals present will be included with the summary of the open portions of the WSWG meeting.

The meeting will be closed to the public on October 27, 2004. In addition, the WSWG may, as necessary, enter into closed sessions, late in the afternoon of October 28, 2004, immediately before lunch on October 29, 2004, and late in the day on October 29, 2004. If closed sessions are needed on October 28, 2004 or October 29, 2004, opportunities for public comment will be provided before any closed sessions begin.

Public Comment

An opportunity for public comment will be provided during the open part of the WSWG meeting. Oral statements will be limited to five minutes, and it is preferred that only one person present the statement on behalf of a group or organization. Written comments may be provided at the meeting or may be sent, by mail, to Marc Santora, Designated Federal Officer for the WSWG, at the e-mail address listed in the FOR FURTHER INFORMATION CONTACT section of this notice.

Special Accommodations

Any person needing special accommodations at this meeting, including wheelchair access, should contact Marc Santora, Designated Federal Officer, at the number or e-mail address listed in the FOR FURTHER INFORMATION CONTACT section of this notice. Requests for special accommodations should be made at least five business days in advance of the WSWG meeting.

Dated: October 12, 2004.
Cynthia C. Dougherty,
Director, Office of Ground Water and Drinking Water.

[FR Doc. 04-23258 Filed 10-14-04; 8:45 am]

BILLING CODE 6560-50-P